DEPARTMENT OF LABOR

Employment and Training Administration

Solicitation for Grant Applications (SGA) for H-1B Technical Skills Training Grants

AGENCY: Employment and Training Administration (ETA), Labor.

ACTION: Notice; cancellation.

SUMMARY: The Employment and Training Administration published a document in the Federal Register of April 13, 2001, concerning the availability of grant funds for H-1B Technical Skills Training Grants unemployed and employed American workers. This document is being cancelled. A new SGA for the H-1B Technical Skills Training Grants will be announced within 30 days from the cancellation date.

EFFECTIVE DATES: This cancellation is effective November 4, 2002.

FOR FURTHER INFORMATION CONTACT: Ella Freeman, Grants Management Specialist, Division of Federal Assistance, Telephone (202) 693-3301. (This is not a toll-free number). You must specifically ask for Ella Freeman.

SUPPLEMENTARY INFORMATION: The Department is canceling the Solicitation for Grant Applications (SGA) for H-1B Technical Skills Training Grants. These grants are financed by a user fee paid by employers to bring foreign workers into the U.S. on a temporary basis to work in high skill or speciality occupations.

Dated: October 11, 2002.
Signed in Washington, DC, this 15th day of October, 2002.
James W. Stockton,
Grant Officer.

[FR Doc. 02-26565 Filed 10-17-02; 8:45 am]

BILLING CODE 4510-30-M